FEDERAL MARITIME COMMISSION

Ocean Transportation Intermediary License Applicants

The Commission gives notice that the following applicants have filed an application for an Ocean Transportation Intermediary (OTI) license as a Non-Vessel-Operating Common Carrier (NVO) and/or Ocean Freight Forwarder (OFF) pursuant to section 19 of the Shipping Act of 1984 (46 U.S.C. 40101). Notice is also given of the filing of applications to amend an existing OTI license or the Qualifying Individual (QI) for a licensee.

Interested persons may contact the Office of Ocean Transportation Intermediaries, Federal Maritime Commission, Washington, DC 20573, by telephone at (202) 523-5843 or by email at OTI@fmc.gov.

Daisy Mae Concepcion Viva Taleon dba DMT Global Logistics (NVO & OFF), 634 N. Poplar Street, Unit H, Orange, CA 92868, Officers: Daisy V. Taleon, Managing Member (QI), Catherine V. Guevara, Member, Application Type: Business Structure Change to DMT Global Logistics LLC

Intelligent SCM LLC dba AWA Lines dba AWA Logistics dba Amerian Worlwide, Agencies dba Island Cargo Support (NVO), 3910 Cover Street, Long Beach, CA 90808, Officers: Jeffrey W. Schumacher, Vice President (QI), Alex F. Knowles, Secretary, Application Type: QI Change

Ma International Services Inc. dba Marine Air Logistics (NVO), 161-15 Rockaway Blvd., Suite 209, Jamaica, NY 11434, Officer: Rick C.Y. Ma, President (QI), Application Type: New NVO License

Modern Logistic Services, Inc (NVO & OFF), 1800 NW., 135th Avenue, Suite #108, Miami, FL 33182, Officer: Nello P. Khan, President (QI), Application Type: New NVO & OFF License

Paxton Van Lines, Incorporated dba Meridian Container Lines (NVO & OFF), 5300 Port Royal Road, Springfield, VA 22151, Officers: Fred D. Paxton II, President (QI), Shannon Viveiros, Vice President, International Operations, Application Type: Add Trade Name Paxton International

Transglobal Logistics Inc. (NVO & OFF), 30 Knightsbridge Road, Suite 525, Piscataway, NJ 08854, Officers: Devinda A. Molligoda, Secretary (QI), Sanjay Chopra, President, Application Type: QI Change

By the Commission.
Dated: July 25, 2014.
Karen V. Gregory,
Secretary.

[FR Doc. 2014-17985 Filed 7-30-14; 8:45 am]

BILLING CODE 6730-01-P